GENERAL SERVICES ADMINISTRATION

[Notice-MA-2016-01; Docket No. 2016-0002; Sequence No. 5]

Federal Management Regulation; Best Practices in Warehouse Asset Management

AGENCY: Office of Government-wide Policy (OGP), General Services Administration (GSA).

ACTION: Notice.

SUMMARY: GSA's Office of Government-wide Policy is announcing the availability of a warehouse best practices resource page that is publicly available on http://www.gsa.gov. This page features several effective and efficient practices in warehouse asset management. The purpose of this resource page is to provide strategic guidance, best practices and information about successful initiatives. Through the warehouse best practices resource page on www.gsa.gov, GSA will assist federal agencies with their warehouse challenges.

GSA will continually supplement this site with current warehouse management efficiency studies, articles and practical information on warehouse space utilization.

DATES: Effective: March 24, 2016.

FOR FURTHER INFORMATION CONTACT: Ms. Aluanda Drain, Office of Government-wide Policy (MAC), Office of Asset and Transportation Management, General Services Administration, at 202-501-1624, or by email at aluanda.drain@gsa.gov.

SUPPLEMENTARY INFORMATION: The Government Accountability Office (GAO), in its report GAO-15-41: Strategic Focus Needed to Help Manage Vast and Diverse Warehouse Portfolio (November 12, 2014), found that the Federal Real Property Profile database contains inconsistent warehouse data and agencies face a wide range of challenges in acquiring, managing and disposing of warehouse space. GSA developed a corrective action plan committing to research best practices in warehouse and inventory management and publish lessons learned through a notice in the Federal Register.

Dated: March 17, 2016.
Troy Cribb,
Associate Administrator.

[FR Doc. 2016-06473 Filed 3-23-16; 8:45 am]

BILLING CODE 6820-14-P